DEPARTMENT OF DEFENSE

Office of the Secretary

[Docket ID: DOD-2018-HA-0080]

Proposed Collection; Comment Request

AGENCY: Office of the Assistant Secretary of Defense for Health Affairs, DoD.

ACTION: Information collection notice.

SUMMARY: In compliance with the Paperwork Reduction Act of 1995, the Defense Health Agency announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 24, 2018.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Health Agency, 16401 East Centretech Parkway, Aurora, Colorado 80011-9066, Sharon Seelmeyer, 303-676-3690.

SUPPLEMENTARY INFORMATION:

Title; Associated Form; and OMB Number: Diagnosis Related Groups (DRG) Reimbursement Two Parts; OMB Control Number 0720-0017.

Needs and Uses: This information collection is in conjunction with a notice of proposed collection. The Department of Defense Authorization Act, 1984, P.L. 98-94 amended Title 10, section 1079(j)(2)(A) of the U.S.C. and provided the Civilian Health and Medical Program of the Uniformed Services (CHAMPUS) with the statutory authority to reimburse institutional providers based on diagnosis-related groups (DRGs). The TRICARE/CHAMPUS DRG-based payment system is modeled on the Medicare Prospective Payment System (PPS) and was implemented on October 1, 1987. The TRICARE/CHAMPUS DRG-based payments apply only to hospital's operating costs and do not include any amounts for hospitals' capital or direct medical education costs. Any hospital subject to the DRG-based payment system, except for children's hospitals (whose capital and direct medical education costs are incorporated in the children's hospital differential), who want to be reimbursed for allowed capital and direct medical education costs must submit a request for payment to the TRICARE/CHAMPUS contractor. The request allows TRICARE to collect the information necessary to properly reimburse hospitals for its share of these costs.

Affected Public: Individuals or households.

Annual Burden Hours: 5,600.

Number of Respondents: 5,600.

Responses per Respondent: 1.

Annual Responses: 5,600.

Average Burden per Response: 1 hr.

Frequency: On occasion.

Respondents to the DRG reimbursement request are medical providers at in-patient hospitals and acute care hospitals. Hospitals subject to the TRICARE DRG-based payment system who wish to be reimbursed for Allowed Capital and Direct Medical Education costs (as outlined in the TRICARE Reimbursement Manual) must submit a request for reimbursement to the appropriate TRICARE/CHAMPUS authorized contractors of Managed Care Support Contracts. The TRICARE contractors are Humana and HealthNet; hospitals submit their requests to either of these contractors, dependent upon their region.

Dated: October 19, 2018.
Aaron T. Siegel,
Alternate OSD Federal Register Liaison Officer, Department of Defense.

[FR Doc. 2018-23192 Filed 10-23-18; 8:45 am]

BILLING CODE 5001-06-P